DEPARTMENT OF ENERGY

Federal Energy Regulatory Commission

Combined Notice of Filings #1

February 1, 2008.

Take notice that the Commission received the following electric rate filings:

Docket Numbers: ER91-569-038.

Applicants: Entergy Services, Inc.

Description: Entergy Arkansas, Inc and Entergy Gulf States Louisiana, LLC et al. reports a non-material change in status pursuant to the requirements of Order 652.

Filed Date: 01/30/2008.

Accession Number: 20080131-0090.

Comment Date: 5 p.m. Eastern Time on Wednesday, February 20, 2008.

Docket Numbers: ER01-138-005.

Applicants: Delta Person Limited Partnership.

Description: Delta Person Limited Partnership submits a notice of non-material change in status in compliance with the reporting requirements of FERC's Order 652.

Filed Date: 01/30/2008.

Accession Number: 20080131-0091.

Comment Date: 5 p.m. Eastern Time on Wednesday, February 20, 2008.

Docket Numbers: ER01-316-027.

Applicants: ISO New England Inc.

Description: ISO New England Inc. submits its Index of Customers for the fourth quarter of 2007.

Filed Date: 01/30/2008.

Accession Number: 20080131-0057.

Comment Date: 5 p.m. Eastern Time on Wednesday, February 20, 2008.

Docket Numbers: ER04-805-007.

Applicants: Wabash Valley Power Association, Inc.

Description: Wabash Valley Power Association, Inc submits a Notice of Change in Status in compliance with FERC's Order 652.

Filed Date: 01/30/2008.

Accession Number: 20080131-0092.

Comment Date: 5 p.m. Eastern Time on Wednesday, February 20, 2008.

Docket Numbers: ER06-275-003.

Applicants: Northeast Utilities Service Company.

Description: The Connecticut Light & Power Co et al. submits a report updating the Commission on the status of four major transmission projects in Southwest Connecticut and providing accounting information etc.

Filed Date: 01/30/2008.

Accession Number: 20080131-0060.

Comment Date: 5 p.m. Eastern Time on Wednesday, February 20, 2008.

Docket Numbers: ER06-739-009; ER06-738-009; ER02-537-012; ER03-983-008; ER07-501-005; ER07-758-004.

Applicants: East Coast Power Linden Holding, LLC; Cogen Technologies Linden Ventures, L.P.; Fox Energy Company LLC; Birchwood Power Partners, L.P.; Shady Hills Power Company, L.L.C.

Description: The GE Companies submits Notice of Change in Status resulting from the completion of the transaction authorized by the Commission pursuant to Order 652.

Filed Date: 01/29/2008.

Accession Number: 20080131-0146.

Comment Date: 5 p.m. Eastern Time on Tuesday, February 19, 2008.

Docket Numbers: ER07-407-003; ER07-342-002; ER07-522-002.

Applicants: High Prairie Wind Farm II, LLC; Telocaset Wind Power Partners, LLC; Old Trail Wind Farm, LLC.

Description: High Prairie Wind Farm II, LLC et al. submits a notice of non-material change in status in compliance with FERC's Order 652.

Filed Date: 01/30/2008.

Accession Number: 20080131-0093.

Comment Date: 5 p.m. Eastern Time on Wednesday, February 20, 2008.

Docket Numbers: ER07-1105-003.

Applicants: Cedar Creek Wind Energy, LLC.

Description: Cedar Creek Wind Energy, LLC submits an amendment to its Rate Schedule FERC 1.

Filed Date: 01/25/2008.

Accession Number: 20080130-0181.

Comment Date: 5 p.m. Eastern Time on Friday, February 15, 2008.

Docket Numbers: ER07-1399-001.

Applicants: PJM Interconnection, L.L.C.

Description: PJM Interconnection LLC notifies FERC of the effective dates of two executed interconnection service agreements with Connective Delmarva Generation, Inc et al.

Filed Date: 01/31/2008

Accession Number: 20080201-0124.

Comment Date: 5 p.m. Eastern Time on Thursday, February 21, 2008.

Docket Numbers: ER08-15-001.

Applicants: Midwest ISO Transmission Owners.

Description: Midwest ISO Transmission Owners responds to FERC 11/30/07 Deficiency Letter requesting additional information.

Filed Date: 01/31/2008.

Accession Number: 20080201-0129.

Comment Date: 5 p.m. Eastern Time on Thursday, February 21, 2008.

Docket Numbers: ER08-185-001; ER08-186-001.

Applicants: Ameren Energy Marketing Company.

Description: Ameren Services Company Submits Letter in Support of Compliance Filings Submitted by Ameren Energy Marketing Company and Union Electric Company.

Filed Date: 01/30/2008; 01/30/2008.

Accession Number: 20080131-0088; 20080130-5081; 20080139-5078.

Comment Date: 5 p.m. Eastern Time on Wednesday, February 20, 2008.

Docket Numbers: ER08-354-001.

Applicants: Wells Fargo Energy Markets, LLC.

Description: Wells Fargo Energy Markets, LLC submits amendments to its application for market-based rate authority.

Filed Date: 01/30/2008.

Accession Number: 20080131-0094.

Comment Date: 5 p.m. Eastern Time on Wednesday, February 20, 2008.

Docket Numbers: ER08-411-001.

Applicants: Tiger Natural Gas, Inc.

Description: Tiger Natural Gas Inc's amended petition for acceptance of initial tariff, waivers and blanket authority.

Filed Date: 01/30/2008.

Accession Number: 20080131-0059.

Comment Date: 5 p.m. Eastern Time on Wednesday, February 20, 2008.

Docket Numbers: ER08-490-000.

Applicants: PJM Interconnection, L.L.C.

Description: PJM Interconnection, LLC submits an executed Interim Interconnection Service Agreement with High Trail Wind Farm et al.

Filed Date: 01/29/2008.

Accession Number: 20080130-0081.

Comment Date: 5 p.m. Eastern Time on Tuesday, February 19, 2008.

Docket Numbers: ER08-491-000.

Applicants: The Empire District Electric Company.

Description: The Empire District Electric Co. submits its Original Sheet 1 et al. to FERC Electric Tariff, First Revised Volume 2, effective 1/29/08.

Filed Date: 01/28/2008.

Accession Number: 20080130-0085.

Comment Date: 5 p.m. Eastern Time on Tuesday, February 19, 2008.

Docket Numbers: ER08-492-000.

Applicants: PJM Interconnection, L.L.C.

Description: PJM Interconnection, LLC submits an executed Interim Interconnection Service Agreement.

Filed Date: 01/29/2008.

Accession Number: 20080130-0082.

Comment Date: 5 p.m. Eastern Time on Tuesday, February 19, 2008.

Docket Numbers: ER08-493-000.

Applicants: PJM Interconnection, L.L.C.

Description: PJM Interconnection, LLC submits an executed Interim Interconnection Service Agreement with Zion Energy, LLC et al.

Filed Date: 01/29/2008.

Accession Number: 20080130-0083.

Comment Date: 5 p.m. Eastern Time on Tuesday, February 19, 2008.

Docket Numbers: ER08-494-000.

Applicants: PJM Interconnection, L.L.C.

Description: PJM Interconnection LLC submits an executed interconnection service agreement and an executed interconnection service agreement with Lookout Windpower LLC et al.

Filed Date: 01/28/2008.

Accession Number: 20080130-0084.

Comment Date: 5 p.m. Eastern Time on Tuesday, February 19, 2008.

Docket Numbers: ER08-495-000.

Applicants: Kimberly-Clark Corporation.

Description: Kimberly-Clark Corporation submits a Petition for Acceptance of FERC Electric Rate Schedule 1, with an effective dated 1/30/07.

Filed Date: 01/30/2008.

Accession Number: 20080131-0058.

Comment Date: 5 p.m. Eastern Time on Wednesday, February 20, 2008.

Docket Numbers: ER08-496-000.

Applicants: Southwest Power Pool, Inc.

Description: Southwest Power Pool Inc submits an executed Interconnection Agreement designated as Service Agreement 1602 to the Open Access Transmission Tariff.

Filed Date: 01/30/2008.

Accession Number: 20080131-0061.

Comment Date: 5 p.m. Eastern Time on Wednesday, February 20, 2008.

Docket Numbers: ER08-497-000.

Applicants: El Paso Electric Company.

Description: El Paso Electric Co. submits its notice of cancellation of its Rate Schedule 18 and all supplements.

Filed Date: 01/30/2008.

Accession Number: 20080131-0095.

Comment Date: 5 p.m. Eastern Time on Wednesday, February 20, 2008.

Docket Numbers: ER08-498-000.

Applicants: New York Independent System Operator, Inc.

Description: New York Independent System Operator, Inc submits proposed revisions to its Open Access Transmission Tariff and Market Administration and Control Area Services Tariff.

Filed Date: 01/30/2008.

Accession Number: 20080131-0096.

Comment Date: 5 p.m. Eastern Time on Wednesday, February 20, 2008.

Docket Numbers: ER08-502-000.

Applicants: Linde Energy Services, Inc.

Description: Linde Energy Services, Inc submits notification of succession.

Filed Date: 01/31/2008.

Accession Number: 20080201-0128.

Comment Date: 5 p.m. Eastern Time on Thursday, February 21, 2008.

Docket Numbers: ER08-503-000.

Applicants: MidAmerican Energy Company.

Description: MidAmerican Energy Co submits an amended Network Operating Agreement with City of Geneseo, IL.

Filed Date: 01/31/2008.

Accession Number: 20080201-0127.

Comment Date: 5 p.m. Eastern Time on Thursday, February 21, 2008.

Docket Numbers: ER08-504-000.

Applicants: Florida Power & Light Company.

Description: Florida Power & Light Co submits Rate Schedule 306, the Midway-Hartman #2 138kV Interconnection Agreement with Florida Municipal Power Agency et al.

Filed Date: 01/31/2008.

Accession Number: 20080201-0126.

Comment Date: 5 p.m. Eastern Time on Thursday, February 21, 2008.

Docket Numbers: ER08-505-000.

Applicants: Xcel Energy Services Inc.

Description: Northern States Power Co submits a Notice of Termination of the Transmission Capacity and Planning Agreement between Northern States Power Co and the City of Windom, MN.

Filed Date: 01/31/2008.

Accession Number: 20080201-0125.

Comment Date: 5 p.m. Eastern Time on Thursday, February 21, 2008.

Take notice that the Commission received the following electric securities filings:

Docket Numbers: ES08-21-001; ES08-22-001; ES08-23-001.

Applicants: Kansas Gas and Electric Company, Westar Energy, Inc.

Description: Form 523—Request for Permission to Issue Securities of Kansas Gas and Electric Company, and Westar Energy, Inc.

Filed Date: 01/30/2008.

Accession Number: 20080129-5085.

Comment Date: 5 p.m. Eastern Time on Monday, February 11, 2008.

Docket Numbers: ES08-28-000.

Applicants: International Transmission Company.

Description: Form 523—Request for Permission to Issue Securities of International Transmission Company.

Filed Date: 01/30/2008.

Accession Number: 20080130-5076.

Comment Date: 5 p.m. Eastern Time on Wednesday, February 20, 2008.

Docket Numbers: ES08-29-000.

Applicants: ENTERGY SERVICES INC.

Description: Form 523—Entergy Services, Inc. et al.—Joint Application for Authorization to Issue Securities.

Filed Date: 01/31/2008.

Accession Number: 20080131-5088.

Comment Date: 5 p.m. Eastern Time on Thursday, February 21, 2008.

Docket Numbers: ES08-30-000.

Applicants: Entergy Louisiana, LLC.

Description: Form 523—Application of Entergy Louisiana, LLC for Authorization to Issue Securities.

Filed Date: 01/31/2008.

Accession Number: 20080131-5091.

Comment Date: 5 p.m. Eastern Time on Thursday, February 21, 2008.

Take notice that the Commission received the following open access transmission tariff filings:

Docket Numbers: OA07-11-002; OA07-33-001.

Applicants: Deseret Generation & Transmission Co-op.

Description: Order No. 890 OATT Compliance Filing of Deseret Generation & Transmission Co-operative, Inc.

Filed Date: 01/31/2008.

Accession Number: 20080131-5108.

Comment Date: 5 p.m. Eastern Time on Thursday, February 21, 2008.

Docket Numbers: OA07-31-002.

Applicants: Aquila, Inc.

Description: Aquila, Inc. errata filing in Docket No. OA07-31.

Filed Date: 01/31/2008.

Accession Number: 20080131-5010.

Comment Date: 5 p.m. Eastern Time on Thursday, February 21, 2008.

Docket Numbers: OA07-90-002.

Applicants: MidAmerican Energy Company.

Description: MidAmerican Energy submits substitute tariff sheet and process flow diagram to Attachment C in OA07-90.

Filed Date: 01/31/2008.

Accession Number: 20080131-5041.

Comment Date: 5 p.m. Eastern Time on Thursday, February 21, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed docket(s). For assistance with any FERC Online service, please e-mail FERCOnlineSupport@ferc.gov. or call (866) 208-3676 (toll free). For TTY, call (202) 502-8659.

Nathaniel J. Davis, Sr.,
Deputy Secretary.

.

[FR Doc. E8-2449 Filed 2-8-08; 8:45 am]

BILLING CODE 6717-01-P